Title 3—

The President

Proclamation 9827 of November 20, 2018

Thanksgiving Day, 2018

By the President of the United States of America

A Proclamation

On Thanksgiving Day, we recall the courageous and inspiring journey of the Pilgrims who, nearly four centuries ago, ventured across the vast ocean to flee religious persecution and establish a home in the New World. They faced illness, harsh conditions, and uncertainty, as they trusted in God for a brighter future. The more than 100 Pilgrims who arrived at Plymouth, Massachusetts, on the Mayflower, instilled in our Nation a strong faith in God that continues to be a beacon of hope to all Americans. Thanksgiving Day is a time to pause and to reflect, with family and friends, on our heritage and the sacrifices of our forebearers who secured the blessings of liberty for an independent, free, and united country.

After surviving a frigid winter and achieving their first successful harvest in 1621, the Pilgrims set aside 3 days to feast and give thanks for God's abundant mercy and blessings. Members of the Wampanoag tribe—who had taught the Pilgrims how to farm in New England and helped them adjust and thrive in that new land—shared in the bounty and celebration. In recognition of that historic event, President George Washington, in 1789, issued a proclamation declaring the first national day of thanksgiving. He called upon the people of the United States to unite in rendering unto God our sincere and humble gratitude “for his kind care and protection of the People of this Country” and “the favorable interpositions of his Providence.” President Abraham Lincoln revived this tradition as our fractured Nation endured the horrors of the Civil War. Ever since, we have set aside this day to give special thanks to God for the many blessings, gifts, and love he has bestowed on us and our country.

This Thanksgiving, as we gather in places of worship and around tables surrounded by loved ones, in humble gratitude for the bountiful gifts we have received, let us keep in close memory our fellow Americans who have faced hardship and tragedy this year. In the spirit of generosity and compassion, let us joyfully reach out in word and deed, and share our time and resources throughout our communities. Let us also find ways to give to the less fortunate—whether it be in the form of sharing a hearty meal, extending a helping hand, or providing words of encouragement.

We are especially reminded on Thanksgiving of how the virtue of gratitude enables us to recognize, even in adverse situations, the love of God in every person, every creature, and throughout nature. Let us be mindful of the reasons we are grateful for our lives, for those around us, and for our communities. We also commit to treating all with charity and mutual respect, spreading the spirit of Thanksgiving throughout our country and across the world.

Today, we particularly acknowledge the sacrifices of our service members, law enforcement personnel, and first responders who selflessly serve and protect our Nation. This Thanksgiving, more than 200,000 brave American patriots will spend the holiday overseas, away from their loved ones. Because of the men and women in uniform who volunteer to defend our liberty, we are able to enjoy the splendor of the American life. We pray for their safety, and for the families who await their return.

NOW, THEREFORE, I, DONALD J. TRUMP, President of the United States of America, by virtue of the authority vested in me by the Constitution and the laws of the United States, do hereby proclaim Thursday, November 22, 2018, as a National Day of Thanksgiving. I encourage all Americans to gather, in homes and places of worship, to offer a prayer of thanks to God for our many blessings.

IN WITNESS WHEREOF, I have hereunto set my hand this twentieth day of November, in the year of our Lord two thousand eighteen, and of the Independence of the United States of America the two hundred and forty-third.

[FR Doc. 2018-25982

Filed 11-27-18; 8:45 am]

Billing code 3295-F9-P